DEPARTMENT OF VETERANS AFFAIRS

National Commission on VA Nursing; Meeting

The Department of Veterans Affairs (VA) gives notice under Public Law 92-463 (Federal Advisory Committee Act) that the National Commission on VA Nursing will hold it's first meeting on May 8, 2002, at the Department of Veterans Affairs, 810 Vermont Avenue, NW, Room 930, Washington, DC 20420. The meeting will begin at 8:15 a.m. and end at 5:30 p.m. The meeting will be open to the public.

The Commission, established under the “Department of Veterans Affairs Programs Enhancement Act of 2001,” is to consider legislative and organizational policy changes to enhance the recruitment and retention of nurses and other nursing personnel in VA; and to evaluate the future of the nursing profession in VA. The Commission is required, not later than two years from the date of its first meeting, to submit to Congress and the Secretary of Veterans Affairs a report on the Commission's findings and recommendations.

The meeting will begin with a discussion of the Commission's goals and work plans, and will be led by the Commission's Chairperson, Marilyn M. Pattillo, Ph.D., R.M., C.S., N.P. The Commission will be briefed on VA's mission and on the role of VA nursing personnel in meeting that mission. Members will also be provided information on VA human resources polices related to nursing personnel, an assessment of VA's current and anticipated nurse staffing trends, and information concerning VA's current initiatives to enhance the recruitment and retention of nursing personnel.

No time will be allocated for receiving oral presentations from the public. However, members of the public may direct questions or submit prepared statements for review by the Commission in advance of the meeting, in writing only, to Ms. Stephanie Williams, Program Analyst, at Department of Veterans Affairs (10A2N), 810 Vermont Avenue, NW, Washington, DC 20420. Any member of the public wishing to attend the meeting should contact Ms. Williams, at (202) 273-4944.

Dated: April 17, 2002.
By direction of the Secretary.
Nora E. Egan,
Committee Management Officer.

[FR Doc. 02-9985 Filed 4-23-02; 8:45 am]

BILLING CODE 8320-01-M